DEPARTMENT OF AGRICULTURE

Food and Nutrition Service

7 CFR Parts 271, 272 and 275

[FNS-2011-0035]

RIN 0584-AD86

Supplemental Nutrition Assistance Program: Review of Major Changes in Program Design and Management Evaluation Systems; Approval of Information Collection Request

AGENCY: Food and Nutrition Service, USDA.

ACTION: Final rule; notice of approval of Information Collection Request (ICR).

SUMMARY: The final rule entitled Supplemental Nutrition Assistance Program: Review of Major Changes in Program Design and Management Evaluation Systems was published on January 19, 2016. The Office of Management and Budget (OMB) cleared the associated information collection requirements (ICR) on March 10, 2016. This document announces approval of the ICR.

DATES: The ICR associated with the final rule published in the Federal Register on January 19, 2016, at 81 FR 2725, was approved by OMB on March 10, 2016.

FOR FURTHER INFORMATION CONTACT: Mary Rose Conroy, Chief, Program Design Branch, Program Development Division, Food and Nutrition Service, USDA, 3101 Park Center Drive, Alexandria, Virginia 22302, (703) 305-2803, or SNAPMajorChange@fns.usda.gov.

SUPPLEMENTARY INFORMATION: The final rule entitled Supplemental Nutrition Assistance Program: Review of Major Changes in Program Design and Management Evaluation Systems was published on January 19, 2016. The Office of Management and Budget (OMB) cleared the associated information collection requirements (ICR) on March 10, 2016. This document announces approval of the ICR. The ICR for this rule approved the creation of a new information collection, which has been assigned the OMB Control Number 0584-0579.

Dated: March 31, 2016.
Audrey Rowe,
Administrator, Food and Nutrition Service.

[FR Doc. 2016-08031 Filed 4-7-16; 8:45 am]

BILLING CODE 3410-30-P